DEPARTMENT OF THE INTERIOR

Fish and Wildlife Service

Receipt of Five Applications for Incidental Take Permits for Construction of Five Single-Family Homes in Brevard County, Florida

AGENCY: Fish and Wildlife Service, Interior.

ACTION: Notice; request for comments.

SUMMARY: We, the Fish and Wildlife Service (Service), announce the availability of Habitat Conservation Plans (HCPs)/applications for five incidental take permits (ITPs). Maronda Homes, Inc., of Florida (Applicant) requests five ITPs, two for a 1-year term and three for a 10-year term, pursuant to section 10(a)(1)(B) of the Endangered Species Act of 1973, as amended (Act). The Applicant anticipates taking about 1.09 acres combined of Florida scrub-jay (Aphelocoma coerulescens) (scrub-jay) foraging and sheltering habitat incidental to lot preparation for the construction of five single-family homes and supporting infrastructure in Brevard County, Florida (Projects). The destruction of 1.09 acres of foraging and sheltering habitat is expected to result in the take of three families of scrub-jays. The Applicant's HCPs describe the mitigation and minimization measures proposed to address the effects of the Projects to the Florida scrub-jay.

DATES: Written comments on the ITP applications and HCPs should be sent to the Jacksonville Field Office (see ADDRESSES) and should be received on or before September 13, 2006.

ADDRESSES: Persons wishing to review the applications and HCPs may obtain a copy by writing the Service's Jacksonville Field Office. Please reference permit number TE 132199-0, for Maronda-Emerson, number TE 132194-0, for Maronda-Mackay, number TE 132193-0, for Maronda-Campbell, number TE 132196-0, for Maronda-Algardi, and number TE 132195-0, for Maronda-Timbruce in such requests. Documents will also be available for public inspection by appointment during normal business hours at the Jacksonville Field Office, 6620 Southpoint Drive South, Suite 310, Jacksonville, Florida 32216-0912.

FOR FURTHER INFORMATION CONTACT: Mr. Michael Jennings, Fish and Wildlife Biologist, Jacksonville Field Office, Jacksonville, Florida (see ADDRESSES above), telephone: 904/232-2580, ext. 113.

SUPPLEMENTARY INFORMATION: If you wish to comment, you may submit comments by any one of several methods. Please reference permit number TE 132199-0, for Maronda-Emerson, number TE 132194-0, for Maronda-Mackay, number TE 132193-0, for Maronda-Campbell, number TE 132196-0, for Maronda-Algardi, and number TE 132195-0, for Maronda-Timbruce in such requests. You may mail comments to the Service's Jacksonville Field Office (see ADDRESSES). You may also comment via the internet to michael_jennings@fws.gov. Please include your name and return address in your internet message. If you do not receive a confirmation from us that we have received your internet message, contact us directly at the telephone number listed above (see FURTHER INFORMATION). Finally, you may hand deliver comments to the Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Residential construction for Maronda-Emerson will take place within section 05, Township 29 South, Range 37 East, Palm Bay, Brevard County, Florida, on lot 02, Block 329. Residential construction for Maronda-Mackay will take place within section 16, Township 29 South, Range 37 East, Palm Bay, Brevard County, Florida, on lot 14, Block 751. Residential construction for Maronda-Campbell will take place within Section 05, Township 29 South, Range 37 East, Palm Bay, Brevard County, Florida, on Lot 12, Block 345. Residential construction for Maronda-Algardi will take place within section 05, Township 29 South, Range 37 East, Palm Bay, Brevard County, Florida, on Lot 02, Block 338. Residential construction for Maronda-Timbruce will take place within Section 21, Township 29 South, Range 37 East, Palm Bay, Brevard County, Florida, on Lot 05, Block 937. Each of these lots are within 438 feet of locations where scrub-jays were sighted during surveys for this species from 1999 to 2003.

The lots combined encompass about 1.09 acres, and the footprint of the homes, infrastructure, and landscaping preclude retention of scrub-jay habitat on each of the respective lots. In order to minimize take on site, the Applicant proposes to complete a nest survey on the Emerson, Mackay, Campbell, and Algardi lots prior to clearing or construction, should such activities take place within the scrub-jay nesting season (March 1-June 30). Should an active nest be found on the property, the Applicant will not clear the property or begin construction until the completion of the nesting season. The Applicant is not proposing to implement any onsite minimization measures for the lot on Timbruce.

In combination, the Applicant proposes to mitigate for the loss of 1.09 acres of scrub-jay habitat by contributing a total of $18,312 ($3,864 for Maronda-Emerson, $3,864 for Maronda-Mackay, $3,864 for Maronda-Campbell, $3,360 for Maronda-Algardi, and $3,360 for Maronda-Timbruce) to the Florida Scrub-jay Conservation Fund administered by The Nature Conservancy. Funds in this account are ear-marked for use in the conservation and recovery of scrub-jays and may include habitat acquisition, restoration, and/or management.

The Service has determined that the Applicant's proposals, including the proposed mitigation and minimization measures, will individually and cumulatively have a minor or negligible effect on the species covered in the HCPs. Therefore, the ITPs are “low-effect” projects and qualify as categorical exclusions under the National Environmental Policy Act (NEPA), as provided by the Department of the Interior Manual (516 DM 2, Appendix 1 and 516 DM 6, Appendix 1). This preliminary information may be revised based on our review of public comments that we receive in response to this notice. Low-effect HCPs are those involving (1) minor or negligible effects on Federally listed or candidate species and their habitats, and (2) minor or negligible effects on other environmental values or resources.

The Service will evaluate the HCPs and comments submitted thereon to determine whether the applications meet the requirements of section 10(a) of the Act (16 U.S.C. 1531 et seq.). The Service will also evaluate whether issuance of the section 10(a)(1)(B) ITPs comply with section 7 of the Act by conducting an intra-Service section 7 consultation. The results of this consultation, in combination with the above findings, will be used in the final analysis to determine whether or not to issue the ITPs.

Authority: This notice is provided pursuant to Section 10 of the Endangered Species Act and NEPA regulations (40 CFR 1506.6).

Dated: August 8, 2006.
David L. Hankla,
Field Supervisor, Jacksonville Field Office.

[FR Doc. E6-13276 Filed 8-11-06; 8:45 am]

BILLING CODE 4310-55-P